DEPARTMENT OF COMMERCE

International Trade Administration

[A-523-813]

Polyethylene Terephthalate Sheet From the Sultanate of Oman: Notice of Initiation of Changed Circumstances Review and Consideration of Revocation of the Antidumping Duty Order

AGENCY: Enforcement and Compliance, International Trade Administration, Department of Commerce.

SUMMARY: Based on a request from Advanced Extrusion, Inc., Good Natured Products, IL dba Ex-Tech Inc., and Multi-Plastics Extrusions, Inc. (collectively, the petitioners), the U.S. Department of Commerce (Commerce) is initiating a changed circumstances review (CCR) to consider the possible revocation of the antidumping duty (AD) order on polyethylene terephthalate (PET) sheet from the Sultanate of Oman (Oman).

DATES: Applicable November 18, 2022.

FOR FURTHER INFORMATION CONTACT: Brittany Bauer, AD/CVD Operations, Office V, Enforcement and Compliance, International Trade Administration, U.S. Department of Commerce, 1401 Constitution Avenue NW, Washington, DC 20230; telephone: (202) 482-3860.

SUPPLEMENTARY INFORMATION:

Background

On September 10, 2020, Commerce published an AD order on PET sheet from Oman.¹ On October 26, 2022, the petitioners (i.e., domestic producers of subject merchandise) requested, through a CCR, the revocation of the Order pursuant to section 751(b)(1)(A) of the Tariff Act of 1930, as amended (the Act), and 19 CFR 351.222(g)(1).²

¹ See Polyethylene Terephthalate Sheet from the Republic of Korea and the Sultanate of Oman: Antidumping Duty Orders, 85 FR 55824 (September 10, 2020) (Order).

² See Petitioners' Letter, “Request for a “No Interest” Changed Circumstances Review and Revocation of the Order,” dated October 26, 2022.

Scope of the Order

The merchandise covered by the Order is raw, pretreated, or primed polyethylene terephthalate sheet, whether extruded or coextruded, in nominal thicknesses of equal to or greater than 7 mil (0.007 inches or 177.8 µm) and not exceeding 45 mil (0.045 inches or 1143 µm) (PET sheet). The scope includes all PET sheet whether made from prime (virgin) inputs or recycled inputs, as well as any blends thereof. The scope includes all PET sheet meeting the above specifications regardless of width, color, surface treatment, coating, lamination, or other surface finish.

The merchandise subject to the Order is properly classified under statistical reporting subheading 3920.62.0090 of the Harmonized Tariff Schedule of the United States (HTSUS). Although the HTSUS subheading is provided for convenience and customs purposes, the written description of the scope is dispositive.

Initiation of CCR and Consideration of Revocation of the Order

Pursuant to section 751(b) of the Act, Commerce will conduct a CCR upon receipt of a request from an interested party ³ that shows changed circumstances sufficient to warrant a review of the order. In accordance with 19 CFR 351.216(d), Commerce determines that the information submitted by the petitioners, i.e., their statement of no interest in the continued maintenance of the Order, constitutes a sufficient basis to conduct a CCR of the Order.

³ The petitioners reported, in their request for a CCR, that they are U.S.-based producers of PET sheet. As such, the petitioners are an interested party within the meaning of section 771(9)(C) of the Act and 19 CFR 351.102(b)(29)(v).

Section 782(h)(2) of the Act and 19 CFR 351.222(g)(1)(i) provide that Commerce may revoke an order (in whole or in part) if it determines that producers accounting for substantially all of the production of the domestic like product have expressed a lack of interest in the order, in whole or in part. In its administrative practice, Commerce has interpreted “substantially all” to mean producers accounting for at least 85 percent of the total U.S. production of the domestic like product covered by the order.⁴

⁴ See, e.g., Certain Cased Pencils from the People's Republic of China: Initiation and Preliminary Results of Antidumping Duty Changed Circumstances Review, and Intent to Revoke Order in Part, 77 FR 42276 (July 18, 2012), unchanged in Certain Cased Pencils from the People's Republic of China: Final Results of Antidumping Duty Changed Circumstances Review, and Determination to Revoke Order, in Part, 77 FR 53176 (August 31, 2012).

The petitioners stated that they were the sole petitioners in the original investigation, but that they did not know whether they account for substantially all of the U.S. production of the domestic like product covered by the Order. Accordingly, we are not combining this notice of initiation with a preliminary determination, pursuant to 19 CFR 351.221(c)(3)(ii). Rather, we will provide interested parties with an opportunity to address the issue of domestic industry support with respect to the revocation of the Order, as explained below. After examining comments, if any, concerning domestic industry support for revocation, we will issue the preliminary results of this CCR.

Public Comment

Interested parties are invited to provide comments and/or factual information regarding this CCR, including comments on industry support. Any comments and factual information must be submitted to Commerce no later than ten days after the date of publication of this notice. Rebuttal comments and rebuttal factual information must be filed with Commerce no later than seven days after the initial comments and/or factual information submissions.⁵ All submissions must be filed electronically using Enforcement and Compliance's Antidumping and Countervailing Duty Centralized Electronic Service System (ACCESS).⁶ An electronically filed document must be received successfully in its entirety by ACCESS, by 5:00 p.m. Eastern Time on the due dates set forth in this notice. Note that Commerce has temporarily modified certain of its requirements for serving documents containing business proprietary information until further notice.⁷

⁵ Submissions of rebuttal factual information must comply with 19 CFR 351.301(b)(2).

⁶ See generally 19 CFR 351.303.

⁷ See Temporary Rule Modifying AD/CVD Service Requirements Due to COVID-19; Extension of Effective Period, 85 FR 41363 (July 10, 2020).

Preliminary and Final Results of the CCR

Commerce intends to publish in the Federal Register a notice of the preliminary results of this CCR in accordance with 19 CFR 351.221(b)(4) and (c)(3)(i). Commerce will set forth its preliminary factual and legal conclusions in that notice. Unless extended, Commerce will issue the final results of this CCR is accordance with the time limits set forth in 19 CFR 351.216(e).

Notification to Interested Parties

This initiation notice is published in accordance with section 751(b)(1) of the Act and 19 CFR 351.221(b)(1).

Dated: November 14, 2022.
James Maeder,
Deputy Assistant Secretary for Antidumping and Countervailing Duty Operations.

[FR Doc. 2022-25200 Filed 11-17-22; 8:45 am]

BILLING CODE 3510-DS-P